DEPARTMENT OF TRANSPORTATION

Federal Railroad Administration

[Docket No. FRA-2023-0002-N-23]

Proposed Agency Information Collection Activities; Comment Request

AGENCY: Federal Railroad Administration (FRA), Department of Transportation (DOT).

ACTION: Notice of withdrawal; reissuance of information collection; request for comment.

SUMMARY: On July 5, 2023, FRA published a 30-day notice of information collection; request for comment in the Federal Register. FR Doc. 2023-08413. Due to technical issues as the result of which FRA did not receive two timely-filed comment letters until after the comment period closed, FRA is withdrawing the July 5, 2023, notice of information collection; request for comment and re-issuing the 30-day notice to address the two additional comments. Accordingly, this notice supersedes the July 5, 2023, notice.

DATES: Interested persons are invited to submit comments on or before August 23, 2023.

ADDRESSES: Written comments and recommendations for the proposed information collection request (ICR) should be sent within 30 days of publication of this notice to www.reginfo.gov/public/do/PRAMain. Find the particular ICR by selecting “Currently under Review—Open for Public Comments” or by using the search function.

FOR FURTHER INFORMATION CONTACT: Ms. Arlette Mussington, Information Collection Clearance Officer, at email: arlette.mussington@dot.gov or telephone: (571) 609-1285 or Ms. Joanne Swafford, Information Collection Clearance Officer, at email: joanne.swafford@dot.gov or telephone: (757) 897-9908.

SUPPLEMENTARY INFORMATION: The PRA, 44 U.S.C. 3501-3520, and its implementing regulations, 5 CFR part 1320, require Federal agencies to issue two notices seeking public comment on information collection activities before OMB may approve paperwork packages. See 44 U.S.C. 3506, 3507; 5 CFR 1320.8 through 1320.12. On April 21, 2023, FRA published a 60-day notice in the Federal Register soliciting public comment on the ICR for which it is now seeking Office of Management and Budget (OMB) approval. See 88 FR 24657. On July 5, 2023, FRA published a 30-day notice in the Federal Register, 88 FR 42999. Due to technical issues in which FRA did not receive two timely-filed comment letters until after the comment period closed, FRA is withdrawing the July 5, 2023, notice of information collection; request for comment and re-issuing it to address the two additional comment letters.¹ In addition, FRA has made adjustments to the total number of responses and burden hours in the PRA table that was previously published in the 60-day notice. At this time, FRA is forwarding the ICR to OMB for review and comment.²

¹ On July 5, 2023, FRA published a 30-day notice, 88 FR 42999, that discussed and responded to one comment letter, 88 FR 24657. FRA was made aware of two additional, timely-filed comment letters that were received after the close of the 60-day comment period. FRA is withdrawing and re-issuing the 30-day notice to summarize and incorporate the two comment letters. For completeness, FRA will also re-print its summary and response to the third comment letter discussed in the July 5, 2023, notice.

² Once alerted to the fact that FRA received two additional comment letters and that FRA planned to withdraw and re-issue a 30-day notice, DOT did not certify or forward the supporting materials for OMB review.

In a letter dated June 20, 2023, The President of the Transportation Trades Department, AFL-CIO (TTD), expressed strong support for this ICR. TTD noted that FRA's proposed collection of information concerning train lengths, in feet, and number of crew members aboard a controlling locomotive involved in an accident at the time of such accident would bring FRA into compliance with the mandate in the Infrastructure Investment and Jobs Act (IIJA). TTD requests that FRA amend Form FRA F 6180.54 by adding this information on a permanent basis and by incorporating it into a location on the form. Additionally, TTD recommends that FRA take the additional step of collecting information about train weight distribution, number of buffer cars between cars containing hazardous materials, crew member locations, presence of distributed power units, and synchronous or asynchronous operating modes.

FRA is taking TTD's suggestions under advisement and may incorporate some or all of the suggested information at a future date. Additionally, FRA is reviewing and considering updates to the data collected on the Form FRA F 6180.54, and TTD's suggestions will be considered for inclusion in a future version of the form.

In a comment letter dated June 20, 2023, the Association of American Railroads (AAR) raised several concerns. AAR asserts that FRA uses an artificially low monetary reporting threshold and its failure to incorporate the latest data decreases the utility of the reporting process. While FRA appreciates AAR's concern, this comment does not fall within the scope of the current ICR concerning the proposed paperwork burdens associated with accident/incident reporting and recordkeeping and thus, will not be addressed here.

AAR also asserts that FRA underestimates the amount of time required to gather information on crew size and train length because railroads, at a minimum, need to run separate reports and conduct searches to find this information. In response to AAR's feedback, FRA reviewed the estimate for the average time each railroad will need to provide information on crew size and train length in Special Study Blocks 49a and 49b. FRA disagrees with AAR's conclusion that railroads need more time to collect this information because the reporting data is readily available to railroads at the onset of the accident. Accordingly, FRA's estimate for the average time per response and the resulting estimated paperwork burden will remain unchanged.

AAR also notes that the IIJA limits the time period for the information collection to four years as opposed to FRA's proposed five years. After further consideration, FRA is revising its collection plan and proposes to collect this information for a projected four-year period in conformance with the time period set out by the IIJA. However, as FRA noted in response to TTD's suggestion of a permanent collection, FRA is reviewing and considering updates to the data collected on the FRA F 6180.54 form.

AAR also requests that FRA clarify reporting requirements for Special Study Blocks 49a and 49b and notes that in the FRA Guide for Preparing Accident/Incident Reports, Special Study Block 49a is currently used to report the type of track an accident occurred on and in Special Study Block 49b, FRA has instructed railroads to provide information related to the number of cars carrying crude oil. In response to this feedback, FRA will modify the instructions for the Special Study Blocks on its website. Additionally, updates to the FRA Guide for Preparing Accident/Incident Reports are in progress.

AAR's final assertion is that FRA's delayed action undermines its existing train crew size rulemaking activities. While FRA appreciates this feedback, it does not fall within the scope of the current ICR concerning the paperwork burdens associated with accident/incident reporting and recordkeeping and thus, will not be addressed here.

The Chief Economist of the Bureau of Economic Analysis (BEA) sent an electronic letter dated May 30, 2023, expressing BEA's strong support for FRA's continued collection of data on the Accident/Incident Reporting and Recordkeeping forms. The Chief Economist noted that the data collected on these forms are crucial to key components of BEA's economic analyses and requested that FRA keep BEA informed of any modifications to these forms.

Before OMB decides whether to approve this proposed collection of information, it must provide 30-days' notice for public comment. Federal law requires OMB to approve or disapprove paperwork packages between 30 and 60 days after the 30-day notice is published. 44 U.S.C. 3507(b)-(c); 5 CFR 1320.12(d); see also 60 FR 44978, 44983, Aug. 29, 1995. This ICR responds to the information collection mandate in section 22421(b) of the IIJA and also provides routine updates to 49 CFR part 225's overall ICR renewal.

OMB believes the 30-day notice informs the regulated community to file relevant comments and affords the agency adequate time to digest public comments before it renders a decision. 60 FR 44983, Aug. 29, 1995. Therefore, respondents should submit their respective comments to OMB within 30 days of publication to best ensure having their full effect.

Comments are invited on the following ICR regarding: (1) whether the information collection activities are necessary for FRA to properly execute its functions, including whether the information will have practical utility; (2) the accuracy of FRA's estimates of the burden of the information collection activities, including the validity of the methodology and assumptions used to determine the estimates; (3) ways for FRA to enhance the quality, utility, and clarity of the information being collected; and (4) ways to minimize the burden of information collection activities on the public, including the use of automated collection techniques or other forms of information technology.

The summary below describes the ICR that FRA will submit for OMB clearance as the PRA requires:

Title: Accident/Incident Reporting and Recordkeeping.

OMB Control Number: 2130-0500.

Abstract: The railroad accident/incident reporting regulations in 49 CFR part 225 require railroads to submit reports summarizing collisions, derailments, and certain other accidents/incidents involving damages above a periodically revised dollar threshold, as well as certain injuries to passengers, employees, and other persons on railroad property. As the reporting requirements and the information needed regarding each category of accident/incident are unique, a different form is used for each category.

In response to the mandate in IIJA section 22421,³ FRA intends to utilize Form FRA F 6180.54 Special Study Blocks 49a and 49b to collect the following information for a projected four-year period: (1) the length of the involved trains, in feet, and (2) the number of crew members who were aboard a controlling locomotive involved in an accident at the time of such accident. This modification produces a minimal additional burden with respect to what is already being reported, as FRA estimates that the utilization of the Special Study Blocks will require an additional 2 minutes to complete, for a total average burden time of approximately 2 hours and 2 minutes per form, adding an additional 57 hours to the overall collection request.

³ Specifically, IIJA section 22421(b) requires FRA to update Special Study Block 49 on Form FRA F 6180.54, for a period of four years, to collect information on: (1) the number of cars and length of trains involved in an accident/incident; and (2) the number of crew members who were aboard a controlling locomotive involved in an accident at the time of such accident. Railroads are already required to report the number of cars in the consist of a train involved in an accident on Form FRA F 6180.54, Field 35.

Additionally, in this 30-day notice, FRA adjusts its estimated paperwork burden for the total number of responses and total burden hours to correct two calculation errors. Specifically, FRA updates the total number of responses from 85,570 to 88,176 and the total numbers of burden hours from 30,283 to 30,284 hours.

Specifically, under § 225.19(d), FRA expects submissions will decrease significantly from 11,636 hours to 7,040 hours due to a reduction in the number of injuries reported in the last two years. There is no change in the method of collection; this is a routine update for this 3-year ICR renewal period.

Type of Request: Revision of a currently approved collection.

Affected Public: Businesses

Form(s): FRA F 6180.54; .55; .55a; .56; .57; .78; .81; .97; .98; .107; .150.

Respondent Universe: 784 railroads.

Frequency of Submission: On occasion.

Reporting Burden
CFR section | Respondent universe | Total annual responses | Average time per response | Total annual burden hours | Total cost equivalent in U.S. dollar
|  | (A) | (B) | (C = A * B) | (D = C * wage rates) ⁴
225.6(a)—Consolidated reporting—Request to FRA by parent corporation to treat its commonly controlled carriers as a single railroad carrier for purposes of this part | 784 railroads | 0.33 requests | 40.00 hours | 13.20 | $1,028.41
—(b) Written agreement by parent corporation with FRA on specific subsidiaries included in its railroad system | The burden for this requirement is included in § 225.6(a).
—(c) Notification by parent corporation regarding any change in the subsidiaries making up its railroad system and amended written agreement with FRA | The burden for this requirement is included in § 225.6(a).
225.9—Telephonic reports of certain accidents/incidents and other events | 784 railroads | 2,589.00 phone reports | 15.00 minutes | 647.25 | 50,427.25
225.11—Reporting of accidents/incidents—Form FRA F 6180.54 (IIJA created an additional burden of 2 minutes to what is already being reported.) | 784 railroads | 1,699.00 forms | 2 hours + 2 minutes | 3,454.63 | 269,150.22
225.12(a)—Rail equipment accident/incident reports alleging human factor as cause—Form FRA F 6180.81 | 784 railroads | 732.00 forms | 15.00 minutes | 183.00 | 14,257.53
—(b) Part I Form FRA F 6180.78 (Notices) | 784 railroads | 800 notices + 800 notice copies + 3,200 copies + 10 copies | 10 minutes + 3 minutes | 333.83 | 26,008.70
—(c) Joint operations | 784 railroads | 73.00 reports | 20.00 minutes | 24.00 | 1,869.84
—(d) Late identification | 784 railroads | 20 attachments + 20 notices | 10.00 minutes | 6.67 | 519.66
—(g) Employee statement supplementing railroad accident report (Part II Form FRA 6180.78) | Railroad employees | 60.00 statements | 1.50 hours | 90.00 | 7,011.90
—(g)(3) Employee confidential letter | Railroad employees | 5.00 letters | 2.00 hours | 10.00 | 779.10
225.13(A)—Late reports—RR discovery of improperly omitted report of accident/incident | 784 railroads | 50.00 late reports | 2.00 hours | 100.00 | 7,791.00
—(B) RR late/amended report of accident/incident based on employee statement supplementing RR accident report | 784 railroads | 20 amended reports + 30 copies | 1 hour + 3 minutes | 21.50 | 1,675.07
225.18(a)—RR narrative report of possible alcohol/drug involvement in accident/incident | 784 railroads | 12.00 reports | 15.00 minutes | 3.00 | 233.73
—(b) Reports required by § 219.209(b) appended to rail equipment accident/incident report | 784 railroads | 5.00 reports | 30.00 minutes | 2.50 | 194.78
225.19(a)—Rail-highway grade crossing accident/incident report—Form FRA F 6180.57 | 784 railroads | 2,161.50 forms | 2.00 hours | 4,323.00 | 336,804.93
—(d) Death, injury, or occupational illness (Form FRA F 6180.55a) | 784 railroads | 7,040.00 forms | 1.00 hour | 7,040.00 | 548,486.40
225.21—Railroad injury and illness summary—Form FRA F 6180.55 | 784 railroads | 9,408.00 forms | 10.00 minutes | 1,568.00 | 122,162.88
225.21—Annual railroad report of employee hours and casualties, by state—Form FRA F 6180.56 | 784 railroads | 784.00 forms | 15.00 minutes | 196.00 | 15,270.36
225.21/25—Railroad employee injury and/or illness record—Form FRA F 6180.98 | 784 railroads | 4,000.00 forms | 1.00 hour | 4,000.00 | 311,640.00
—Copies of forms to employees | 784 railroads | 3.60 form copies | 2.00 minutes | 0.12 | 9.35
225.21—Initial rail equipment accident/incident record—Form FRA F 6180.97 | 784 railroads | 10,194.00 forms | 30.00 minutes | 5,097.00 | 397,107.27
—Completion of Form FRA F 6180.97 because of rail equipment involvement | FRA anticipates zero railroad submissions during this 3-year ICR period.
—Alternative record for illnesses claimed to be work related—Form FRA F 6180.107 | 784 railroads | 150.00 forms | 75.00 minutes | 187.50 | 14,608.13
—Highway User Statement—RR cover letter and Form FRA F 6180.150 sent out to potentially injured travelers involved in a highway-rail grade crossing accident/incident | 784 railroads | 721.00 letters/forms | 50.00 minutes | 600.83 | 46,810.67
—Form FRA F 6180.150 completed by highway user and sent back to railroad | 117 injured individuals | 117.00 forms | 45.00 minutes | 87.75 | 6,836.60
225.25(h)—Posting of monthly summary | 784 railroads | 9,408.00 lists | 5.00 minutes | 784.00 | 61,081.44
225.27(a)(1)—Retention of records | 784 railroads | 7,500.00 records | 2.00 minutes | 250.00 | 19,477.50
—Record of Form FRA F 6180.107s | The estimated paperwork burden for this requirement is included in 225.21 (Alternative record for illnesses claimed to be work related).
—Record of Monthly Lists | 784 railroads | 9,408.00 records | 2.00 minutes | 313.60 | 24,432.58
(a)(2)—Record of Form FRA F 6180.97 | 784 railroads | 10,194.00 records | 2.00 minutes | 339.80 | 26,473.82
—Record of employee human factor attachments | 784 railroads | 1,464.00 records | 2.00 minutes | 48.80 | 3,802.01
225.33—Internal Control Plans—Amendments | 784 railroads | 10.00 amendments | 6.00 hours | 60.00 | 4,674.60
225.35—Access to records and reports | 784 railroads | 784.00 lists | 20.00 minutes | 261.33 | 20,360.22
225.37(a)—Optical media transfer of reports, updates, and amendments | FRA anticipates zero submissions during this 3-year ICR period.
(c)(2)—Electronic submission of reports, updates, and amendments | 784 railroads | 4,704.00 submissions | 3.00 minutes | 235.20 | 18,324.43
Totals ⁵ | 784 railroads | 88,176 responses | N/A | 30,284 | 2,359,310

Total Estimated Annual Responses: 88,176.

⁴ The dollar equivalent cost is derived from the 2021 Surface Transportation Board Full Year Wage A&B data series using the appropriate employee group hourly wage rage that includes a 75 percent overhead charge.

⁵ Totals may not add due to rounding.

Total Estimated Annual Burden: 30,284 hours.

Total Estimated Annual Burden Hour Dollar Cost Equivalent: $2,359,310.

FRA informs all interested parties that it may not conduct or sponsor, and a respondent is not required to respond to, a collection of information that does not display a currently valid OMB control number.

Authority: 44 U.S.C. 3501-3520.

Allison Ishihara Fultz,
Chief Counsel.

[FR Doc. 2023-15626 Filed 7-21-23; 8:45 am]

BILLING CODE 4910-06-P